DEPARTMENT OF ENERGY

Federal Energy Regulatory Commission

Combined Notice of Filings

Take notice that the Commission has received the following Natural Gas Pipeline Rate and Refund Report filings:

Filings Instituting Proceedings

Docket Numbers: RP24-1079-000.

Applicants: Alliance Pipeline L.P.

Description: 4(d) Rate Filing: Negotiated Rates—Various Oct 1, 2024 Releases to be effective 10/1/2024.

Filed Date: 9/26/24.

Accession Number: 20240926-5035.

Comment Date: 5 p.m. ET 10/8/24.

Docket Numbers: RP24-1085-000.

Applicants: Guardian Pipeline, L.L.C.

Description: 4(d) Rate Filing: Electric Power Cost Recovery Surcharge Adjustment—Fall 2024 to be effective 11/1/2024.

Filed Date: 9/26/24.

Accession Number: 20240926-5111.

Comment Date: 5 p.m. ET 10/8/24.

Docket Numbers: RP24-1086-000.

Applicants: Guardian Pipeline, L.L.C.

Description: 4(d) Rate Filing: Transporter's Use Gas Annual Adjustment—2024 to be effective 11/1/2024.

Filed Date: 9/26/24.

Accession Number: 20240926-5114.

Comment Date: 5 p.m. ET 10/8/24.

Docket Numbers: RP24-1087-000.

Applicants: Midwestern Gas Transmission Company.

Description: 4(d) Rate Filing: Annual Load Management Service Cost Reconciliation Adjustment—2024 to be effective 11/1/2024.

Filed Date: 9/26/24.

Accession Number: 20240926-5118.

Comment Date: 5 p.m. ET 10/8/24.

Docket Numbers: RP24-1088-000.

Applicants: Texas Eastern Transmission, LP.

Description: 4(d) Rate Filing: Venice Extension—Recourse Rates to be effective 10/12/2024.

Filed Date: 9/26/24.

Accession Number: 20240926-5124.

Comment Date: 5 p.m. ET 10/8/24.

Docket Numbers: RP24-1089-000.

Applicants: Texas Eastern Transmission, LP.

Description: 4(d) Rate Filing: Venice Extension Partial In-Service—NRA and NC Agrmt to be effective 10/12/2024.

Filed Date: 9/26/24.

Accession Number: 20240926-5150.

Comment Date: 5 p.m. ET 10/8/24.

Docket Numbers: RP24-1090-000.

Applicants: Trunkline Gas Company, LLC.

Description: Compliance Filing: Annual Report of Flow Through filed 9-27-24 to be effective N/A.

Filed Date: 9/27/24.

Accession Number: 20240927-5018.

Comment Date: 5 p.m. ET 10/9/24.

Docket Numbers: RP24-1091-000.

Applicants: WBI Energy Transmission, Inc.

Description: 4(d) Rate Filing: 2024 Add LS35 to Grasslands Pool to be effective 11/1/2024.

Filed Date: 9/27/24.

Accession Number: 20240927-5027.

Comment Date: 5 p.m. ET 10/9/24.

Docket Numbers: RP24-1092-000.

Applicants: Algonquin Gas Transmission, LLC.

Description: 4(d) Rate Filing: Negotiated Rates—Various Releases eff 9-27-24 to be effective 9/27/2024.

Filed Date: 9/27/24.

Accession Number: 20240927-5031.

Comment Date: 5 p.m. ET 10/9/24.

Docket Numbers: RP24-1093-000.

Applicants: Southern Natural Gas Company, L.L.C.

Description: 4(d) Rate Filing: Negotiated Rate Agreement—Texican—Oct 2024 to be effective 10/1/2024.

Filed Date: 9/27/24.

Accession Number: 20240927-5041.

Comment Date: 5 p.m. ET 10/9/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.

For public inquiries and assistance with making filings such as interventions, comments, or requests for rehearing, the public is encouraged to contact OPP at (202) 502-6595 or OPP@ferc.gov.

Dated: September 27, 2024.
Debbie-Anne A. Reese,
Acting Secretary.

[FR Doc. 2024-22852 Filed 10-2-24; 8:45 am]

BILLING CODE 6717-01-P